DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2003, there were 11 applications approved. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Bismarck, North Dakota.

Application Number: 03-04-C-00-BIS.

Application Type: Impose and use a PFC.

PFC Level: $4.50.

Total PFC Revenue Approved in This Decision: $5,574,555.

Earliest Charge Effective Date: March 1, 2004.

Estimated Charge Expiration Date: October 1, 2014.

Class of Air Carriers Not Required to Collect PFC's: Air taxis filing FAA Form 1800-31 except commuter air carriers.

Determination: Approved. Based on information contained in the public agency's application, the FAA has determined that the approved class accounts for less than 1 percent of the total annual enplanements at Bismarck Municipal Airport.

Brief Description of Projects Approved for Collection and Use:

Filing and mitigation of wetlands in northwest quadrant of the airport

Rehabilitate taxiways C and D.

Update airport layout plan.

Expand general aviation ramp.

New terminal area development project.

Plans and specifications for 2005 construction.

Taxiway C rehabilitation, construction of the corner extension, and replacement of lighting of those sections of taxiways C and B.

Plans and specifications for 2006 construction.

Purchase two plow trucks.

Master plan update.

PFC application preparation.

Decision Date: September 4, 2003.

FOR FURTHER INFORMATION CONTACT: Thomas T. Schauer, Bismarck Airports District Office, (701) 323-7380.

Public Agency: County of Milwaukee, Wisconsin.

Application Number: 03-09-U-00-MKE.

Application Type: Use PFC revenue.

PFC Level: $3.

Total PFC Revenue to be Used in this Decision: $1,474,500.

Charge Effective Date: December 1, 2011.

Estimated Charge Expiration Date: May 1, 2015.

Class of Air Carriers Not Required to Collect PFC's: No change from previous decision.

Brief Description of Projects Approved For Use:

Outer taxiway extension.

International arrivals building ramp expansion.

Decision Date: September 4, 2003.

FOR FURTHER INFORMATION CONTACT: Sandra E. DePottey, Minneapolis Airports District Office, (612) 713-4363.

Public Agency: Regional Authority of Louisville and Jefferson County, Louisville, Kentucky.

Application Number: 03-03-C-00-SDF.

Application Type: Impose and use a PFC.

PFC Level: $3.

Total PFC Revenue Approved in this Decision: $5,666,800.

Earliest Charge Effective Date: April 1, 2017.

Estimated Charge Expiration Date: June 1, 2018.

Classes of Air Carriers Not Required to Collect PFC's:

(1) Air taxi/commercial operators having fewer than 500 annual enplanements; (2) certified air carriers have fewer than 500 annual enplanements; and (3) certified route air carriers having fewer than 500 annual enplanements.

Determination: Approved. Based on information contained in the public agency's application, the FAA has determined that each approved class accounts for less than 1 percent of the total annual enplanements at Louisville International Airport.

Brief Description of Project Approved for Collection and Use:

Regional jet gates and holding rooms.

Decision Date: September 16, 2003.

FOR FURTHER INFORMATION CONTACT: Jerry O. Bowers, Memphis Airports District Office, (901) 544-3495, extension 221.

Public Agency: Metropolitan Knoxville Airport Authority, Knoxville, Tennessee.

Application Number: 03-07-C-00-TYS.

Application Type: Impose and use a PFC.

PFC Level: $4.50.

Total PFC Revenue Approved in this Decision: $4,691,627.

Earliest Charge Effective Date: July 1, 2022.

Estimated Charge Expiration Date: September 1, 2023.

Classes of Air Carriers Not Required to Collect PFC's: Air taxi/commercial operators filing FAA Form 1800-31.

Determination: Approved. Based on information contained in the public agency's application, the FAA has determined that each approved class accounts for less than 1 percent of the total annual enplanements at McGhee Tyson Airport.

Brief Description of Project Approved for Collection and Use: Terminal improvements program.

PFC administration and development.

Decision Date: September 16, 2003.

FOR FURTHER INFORMATION CONTACT: Cager Swauncy, Memphis Airports District Office, (901) 544-3495.

Public Agency: City of Atlanta, Georgia.

Application Number: 03-04-C-00-ATL.

Application Type: Impose and use a PFC.

PFC Level: $4.50.

Total PFC Revenue Approved in this Decision: $251,516,355.

Earliest Charge Effective Date: October 1, 2013.

Estimated Charge Expiration Date: February 1, 2015.

Class of Air Carriers Not Required to Collect PFC's: Air taxi/commercial operators enplaning revenue passengers in limited, irregular, special service air taxi commercial operations such as air ambulance services, student instruction, non-stop sightseeing flights that begin and end at the airport and are concluded within a 25-mile radius of the airport.

Determination: Approved. Based on information contained in the public agency's application, the FAA has determined that each approved class accounts for less than 1 percent of the total annual enplanements at Hartsfield Atlanta International Airport.

Brief Description of Project Approved for Collection and Use. Automated hold baggage screening project.

Determination: Partially approved. The City's PFC application requested 100 percent PFC funding for the project. However, after the application was submitted, the City received an Airport Improvement Program (AIP) grant to fund a portion of the project. Therefore, the approved amount was reduced by the amount of the AIP grant.

Decision Date: September 19, 2003.

FOR FURTHER INFORMATION CONTACT: Terry Washington, Atlanta Airports District Office, (404) 305-7143.

Public Agency: Wichita Airport Authority, Wichita, Kansas.

Application Number: 03-04-C-00-ICT.

Application Type: Impose and use a PFC.

PFC Level: $3.

Total PFC Revenue Approved in this Decision: $9,329,500.

Earliest Charge Effective Date: December 1, 2003.

Estimated Charge Expiration Date: November 1, 2007.

Class of Air Carriers not Required to Collect PFC's:

On demand air taxi/commercial operators.

Determination: Approved. Based on information contained in the public agency's application, the FAA has determined that the approved class accounts for less than 1 percent of the total annual enplanements at Wichita Mid-Continent Airport.

Brief Description of Projects Approved for Collection and Use:

Runway and taxiway shoulders/blast pad rehabilitation.

South air cargo apron and road construction.

North air cargo apron construction (phase IV).

Perimeter service and security road rehabilitation.

General aviation ramp reconstruction (phases I and II).

North general aviation ramp reconstruction.

North T-hangar complex pavement rehabilitation.

Pavement condition inventory.

Airport road rehabilitation.

Mid-Continent Drive bridge rehabilitation.

Security gate entrance driveway reconstruction.

Terminal loop road rehabilitation.

Runway liquid materials spreader.

Snow sweeper/blower.

Snow removal equipment.

Airfield sweeper truck replacement.

Two aircraft rescue and firefighting vehicles replacement.

Aircraft rescue and firefighting quick response vehicle.

Electric vault flood protection.

Guard stations.

Terminal restroom remodel.

Loading bridge program.

Terminal area planning study.

Master plan update.

Brief Description of Project Partially Approved for Collection and Use: Two disabled passenger boarding assistance devices.

Determination: Partially approved. The public agency did not provide substantive information regarding usage rates that would exceed the capacity of one device. Therefore, the FAA approved the purchase of only one device.

Brief Description of Withdrawn Projects: Mobile stair truck.

Determination: The public agency withdrew this project from the application by letter dated September 17, 2003.

Baggage area screening upgrade.

Determination: The public agency withdrew this project from the application by letter dated June 19, 2003.

Decision Date: September 22, 2003.

FOR FURTHER INFORMATION CONTACT: Lorna Sandridge, Central Region Airports Division, (816) 329-2641.

Public Agency: Port of Oakland, Oakland, California.

Application Number: 03-13-C-00-OAK.

Application Type: Impose and use a PFC.

PFC Level: $4.50.

Total PFC Revenue Approved in this Decision: $176,267,000.

Earliest Charge Effective Date: March 1, 2004.

Estimated Charge Expiration Date: September 1, 2010.

Class of Air Carriers not Required to Collect PFC's:

Nonscheduled/on-demand air carriers filing FAA Form 1800-31.

Determination: Approved. Based on information contained in the public agency's application, the FAA has determined that the approved class accounts for less than 1 percent of the total annual enplanements at Oakland International Airport.

Brief Description of Projects Approved for Collection and Use At a $4.50 PFC Level: Terminal Two building and security improvements.

Reconstruction of taxiway U.

Multi-user system equipment, phase 3.

Security checkpoint enhancements.

Brief Description of Project Approved for Collection and Use At a $3.00 PFC Level: Bay Area Rapid Transit connector project, phase 1.

Decision Date: September 23, 2003.

FOR FURTHER INFORMATION CONTACT: Marlys Linglsch, San Francisco Airports District Office, (650) 876-2806.

Public Agency: City of Atlanta, Georgia.

Application Number: 03-05-U-00-ATL.

Application Type: Use PFC revenue.

PFC Level: $3.00.

Total PFC Revenue to be Used in this Decision: $342,036,938.

Charge Effective Date: May 1, 2005.

Estimated Charge Expiration Date: February 1, 2015.

Class of Air Carriers Not Required to Collect PFC's: No change from previous decision.

Brief Description of Projects Approved for Use: Airport access roadway.

CONRAC automated people mover system.

Decision Date: September 24, 2003.

FOR FURTHER INFORMATION CONTACT: Terry Washington, Atlanta Airports District Office, (404) 305-7143.

Public Agency: Sanford Airport Authority, Sanford, Florida.

Application Number: 03-02-C-00-SFB.

Application Type: Impose and use a PFC.

PFC Level: $2.00.

Total PFC Revenue Approved in this Decision: $13,312,090.

Earliest Charge Effective Date: December 1, 2003.

Estimated Charge Expiration Date: July 1, 2014.

Class of Air Carriers not Required to Collect PFC's: None.

Brief Description of Projects Approved for Collection and Use: Terminal expansion project.

Decision Date: September 25, 2003.

FOR FURTHER INFORMATION CONTACT: Krystal Hudson, Orlando Airports District Office, (407) 812-6331, extension 36.

Public Agency: City of Eugene, Oregon.

Application Number: 03-05-C-00-EUG.

Application Type: Impose and use a PFC.

PFC Level: $4.50.

Total PFC Revenue Approved in this Decision: $2,032,935.

Earliest Charge Effective Date: January 1, 2004.

Estimated Charge Expiration Date: November 1, 2005.

Classes of Air Carriers not Required to Collect PFC's:

(1) Operations by air taxi/commercial operators utilizing aircraft having a maximum seating capacity of less than 20 passengers when enplaneing revenue passengers in a limited, irregular/non-scheduled, or special service manner; and (2) operations by air taxi/commercial operators without regard to seating capacity, for revenue passengers transported for student instruction, nonstop sightseeing flights that begin and end at Eugene Airport and are conducted within a 25 mile radius of the airport, firefighting charters, ferry or training flights, air ambulence/medivact flights; and aerial photography on survey flights.

Determination: Approved. Based on information contained in the public agency's application, the FAA has determined that each approved class accounts for less than 1 percent of the total annual enplanements at Eugene Airport Mahlon Sweet Field.

Brief Description of Projects Approved for Collection and Use: Parallel runway 16L/34R construction.

Parallel runway 16L/34R—ramp construction.

Decision Date: September 26, 2003.

FOR FURTHER INFORMATION CONTACT: Suzanne Lee-Pang, Seattle Airports District Office, (425) 227-2654.

Public Agency: Lee County Airport Authority, Fort Myers, Florida.

Application Number: 03-05-C-00-RSW.

Application Type: Impose and use a PFC.

PFC Level: $4.50.

Total PFC Revenue Approved in This Decision: $104,801,531.

Earliest Charge Effective Date: March 1, 2011.

Estimated Charge Expiration Date: April 1, 2017.

Classes of Air Carriers Not Required to Collect PFC's: Air taxi/commercial operators.

Determination: Approved. Based on information contained in the public agency's application, the FAA has determined that the approved class accounts for less than 1 percent of the total annual enplanements at Southwest Florida International Airport.

Brief Description of Projects Approved for Collection and Use: Design and construction of new midfield terminal.

Runway 10/28 rehabilitation.,

Americans with Disabilities act improvements.

Security upgrades.

Land acquisition.

Snow removal equipment.

Decision Date: September 30, 2003.

FOR FURTHER INFORMATION CONTACT: Juan C. Brown, Orlando Airports District Office, (407) 812-6331, extension 18.

Amendments to PFC Approvals
Amendment No., city, state | Amendment approved date | Original approved net PFC revenue | Amended approved net PFC revenue | Original estimated charge exp. date | Amended estimated charge exp. date
01-03-C-01-BIS Bismarck, ND. | 09/04/03 | $925,522 | $1,001,481 | 12/01/03 | 03/01/04
00-01-C-01-SFB Sanford, FL. | 09/16/03 | 1,100,332 | 1,192,352 | 10/01/16 | 12/01/03

Issued in Washington, DC, on November 21, 2003.
Frank San Martin,
Acting Manager, Financial Analysis and Passenger Facility Branch.

[FR Doc. 03-29847 Filed 11-28-03; 8:45 am]

BILLING CODE 4910-13-M